DEPARTMENT OF HEALTH AND HUMAN SERVICES

[Document Identifier: OS-0990-0390]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 14, 2019.

ADDRESSES: Submit your comments to Sherrette.Funn@hhs.gov or by calling (202) 795-7714.

FOR FURTHER INFORMATION CONTACT: When submitting comments or requesting information, please include the document identifier 0990-0390-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Challenge and Prize Competition Solicitations.

Type of Collection: Reinstatement w/chg.

OMB No. 0990-0390-OS/Office of the Assistant Secretary for Administration (ASA).

Abstract: This request, pursuant to the requirement of section 3506(c)(2)(A) of the PRA, is to seek generic clearance for the collection of routine information requested of responders to solicitations HHS makes during the issuance of challenge and prize competitions posted on a publicly accessible government website, such as Challenge.gov. Since passage of the America COMPETES Reauthorization Act in 2011, Federal agencies including HHS were given prize authority for administering challenges and prize competitions. Challenges and prize competitions enable HHS and its family of agencies (henceforth referred to broadly as “HHS”) to tap into the expertise and creativity of the public in new ways, as well as extend awareness of HHS programs and priorities. HHS's goal is to engage a broader number of stakeholders who are inspired to work on some of our most pressing health issues, thus supporting a new ecosystem of scientists, developers, and entrepreneurs who can continue to innovate for public health.

In order for HHS to quickly and effectively launch challenges and prize competitions on a continual basis, HHS seeks generic clearance to collect information for these challenges and prize competitions, which will generally include first name, last name, email, city, state, and, when applicable, other demographic information of participants (or, “solvers”) or other stakeholders. It can also include other information necessary to evaluate submissions and understand their impact related to the general goals of the challenge or prize competition, as well as additional information relevant to the particular challenge or prize competition through structured questions.

The information collected will be used to understand whether the participant has met the technical requirements for the challenge or prize competition, assist in the technical review and judging of the solutions that are provided, and understand the impact and consequences of administering the challenge or prize competition and developing solutions for submission. Information may be collected during the challenge or prize competition or after its completion.

HHS may also ask for additional information pertaining to the solver's engagement in the challenge or prize competition, such as how they learned about the challenge or prize competition, their technical background, ethnicity, age range, what they currently understand about the HHS agency hosting the challenge or prize competition, etc. This information will enable HHS to better understand the diversity of entrants, the effect of the challenge or prize competition on increasing public awareness of HHS programs and priorities, and generally, to enable the Department to improve its outreach strategies to ensure a diverse and broad innovator constituency is fostered through the use of challenges and prize competitions.

The information collected will be used to understand whether the participant has met the technical requirements for the challenge or prize competition, assist in the technical review and judging of the solutions that are provided, and understand the impact and consequences of administering the challenge or prize competition and developing solutions for submission. Information may be collected during the challenge or prize competition or after its completion. The submissions are evaluated by the agency hosting the challenge or prize competition and prizes (monetary or non-monetary) are awarded to the winning entries.

Likely Respondents: Likely respondents include individuals, businesses, and state and local governments who choose to participate in a challenge or prize competition hosted or overseen (i.e., via contract, etc.) by HHS.

Annualized Burden Hour Table
Respondents (if necessary) | Number of respondents | Number of responses per respondents | Average burden per response (hours) | Total burden hours
Individuals or Households | 1,000 | 1 | 10/60 | 166.7
Organizations | 500 | 1 | 10/60 | 83.3
Businesses | 440 | 1 | 10/60 | 73.3
State, territory, tribal or local governments | 60 | 1 | 10/60 | 10
Total |  | 2,000 |  | 333.3

Terry Clark,
Paperwork Reduction Act Reports Clearance Officer, Office of the Secretary.

[FR Doc. 2019-07379 Filed 4-12-19; 8:45 am]

BILLING CODE 4150-04-P